DEPARTMENT OF HEALTH AND HUMAN SERVICES

Centers for Medicare & Medicaid Services

42 CFR Part 412

Office of the Secretary

45 CFR Part 170

[CMS-1632-P]

RIN-0938-AS41

Medicare Program; Hospital Inpatient Prospective Payment Systems for Acute Care Hospitals and the Long-Term Care Hospital Prospective Payment System Policy Changes and Fiscal Year 2016 Rates; Revisions of Quality Reporting Requirements for Specific Providers, Including Changes Related to the Electronic Health Record Incentive Program

Correction

In proposed rule document 2015-09245 beginning on page 24324 in the issue of Thursday, April 30, 2015 make the following correction(s):

• On page 24324, in the second column, in the DATES section, “June 29, 2015” should read “June 16, 2015”.

[FR Doc. C1-2015-09245 Filed 5-4-15; 8:45 am]

BILLING CODE 1505-01-D